DEPARTMENT OF COMMERCE

National Oceanic and Atmospheric Administration

RIN: 0648-XH23

North Pacific Fishery Management Council; Public Meeting

AGENCY: National Marine Fisheries Service (NMFS), National Oceanic and Atmospheric Administration (NOAA), Commerce.

ACTION: Notice of a public meeting of the North Pacific Fishery Management Council's Crab Plan Team (CPT).

SUMMARY: The Crab Plan Team will meet in Seattle, WA.

DATES: The meeting will be held on May 6-9, 2008. The meeting will be held from 9 a.m. until 5 p.m. on May 6th through May 8th and from 9 a.m. until 12 noon on May 9th.

ADDRESSES: The meeting will be held at the Alaska Fishery Science Center, 7600 Sand Point Way NE. Bldg 4, Traynor Room, Seattle, WA 98115.

Council address: North Pacific Fishery Management Council, 605 W. 4th Avenue, Suite 306, Anchorage, AK 99501-2252.

FOR FURTHER INFORMATION CONTACT: Diana Stram, at (907) 271-2809.

SUPPLEMENTARY INFORMATION: The Plan Team will address the following issues: The new stock assessment review role by CPT, Crab Rationalization Program changes, Economic Data Review, the Economic SAFE report, Crab Research priorities, Assessments for Overfishing Fishing Level considerations by Tiers, rebuilding plan revisions, Finalize overfishing level recommendations for all crab species, finalize CPT report and other issues/new business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 14, 2008.
Tracey L. Thompson,
Acting Director, Office of Sustainable Fisheries, National Marine Fisheries Service.

[FR Doc. E8-8235 Filed 4-16-08; 8:45 am]

BILLING CODE 3510-22-S